COMMODITY FUTURES TRADING COMMISSION

RIN 3038-ZA04

Chicago Mercantile Exchange: Proposed Amendments to the Live Cattle Futures and Option Contracts Increasing the Contracts' Speculative Position Limits

AGENCY: Commodity Futures Trading Commission.

ACTION: Notice of availability of proposed amendments to contract terms and conditions.

SUMMARY: The Chicago Mercantile Exchange (CME or Exchange) has proposed amendments to the Exchange's live cattle futures and option contracts. The proposed amendments would increase to 3,200 contracts from 2,400 contracts the speculative position limit applicable to individual non-spot months. The proposed amendments also would increase to 900 contracts from 600 contracts the speculative position limit applicable to positions held in the expiring contract month from the close of business on the business day following the first Friday of the contract month to the business day preceding the last five trading days of the expiring month. The proposed amendments were submitted under the Commission's 45-day Fast Track procedures which provides that, absent any contrary action by the Commission, the proposed amendments may be deemed approved on February 24, 2000—45 days after the Commission's receipt of the proposals. The Acting Director of the Division of Economic Analysis (Division) of the Commission, acting pursuant to the authority delegated by Commission Regulations 140.96, has determined that publication of the proposed amendments is in the public interest, will assist the Commission in considering the views of interested persons, and is consistent with the purposes of the Commodity Exchange Act.

DATES: Comments must be received on or before February 8, 2000.

ADDRESSES: Interested persons should submit their views and comments to Jean A. Webb, Secretary, Commodity Futures Trading Commission, Three Lafayette Centre, 21st Street, NW, Washington, DC 20581. In addition, comments may be sent by facsimile transmission to facsimile number (202) 418-5521, or by electronic mail to secretary@cftc.gov. Reference should be made to the proposed amendments to the speculative position limits for the CME live cattle futures and option contracts.

FOR FURTHER INFORMATION CONTACT: Please contact John Bird of the Division of Economic Analysis, Commodity Futures Trading Commission, Three Lafayette Centre, 21st Street, NW, Washington, DC 20581, telephone (202) 418-5274. Facsimile number: (202) 418-5527. Electronic mail: jbird@cftc.gov.

SUPPLEMENTARY INFORMATION: The live cattle futures calls for delivery of 40,000 pounds of live steers at specified CME-approved livestock yards located in Iowa, Kansas, Oklahoma, Texas, New Mexico and Colorado or, at the delivery receiver's request, at CME-approved cattle slaughter plants located near the CME-approved livestock yards. The live cattle futures option contract is exercisable into the futures contract and option contract months expire prior to the last five trading days for the underlying futures contract month (the last trading day for expiring contract months is the last business day of the month). Non-delivery period option contract months expire on the last Friday of the month and delivery period options expire on the business day preceding the last nine business days of the underlying futures contract month. Currently, traders' combined positions in the futures and option contracts are subject to speculative position limits of 2,400 contracts in individual non-spot contract months and 600 contracts commencing at the close of business on the business day following the first Friday of the contract month. In addition, positions in the expiring futures contract month are subject to a speculative position limit of 300 contracts during the last five trading days of the expiring contract month.

The proposed amendments would increase to 3,200 contracts from 2,400 contracts the speculative position limit applicable to combined futures and option positions in individual non-spot months. The proposed amendments also would increase to 900 contracts from 600 contracts the speculative position limit applicable to combined futures and option positions held in the expiring contract month from the close of business on the business day following the first Friday of the contract month to the business day preceding the last five trading days of the expiring month. The speculative position limit applicable to futures positions during the last five trading days of the futures contract would remain unchanged at 300 contracts.

The CME intends to make the proposed amendments effective upon Commission approval for all existing and newly listed contract months beginning with the April 2000 contract month.

The Commission is requesting comments on the proposed amendment.

Copies of the proposed amendments will be available for inspection at the Office of the Secretariat, Commodity Futures Trading Commission, Three Lafayette Centre, 21st Street, NW, Washington, DC 20581. Copies of the proposed amendments can be obtained through the Office of the Secretariat by mail at the above address, by phone at (202) 418-5100, or via the Internet at secretary@cftc.gov.

Other materials submitted by the Exchange in support of the proposal may be available upon request pursuant to the Freedom of Information Act (5 U.S.C. 552) and the Commission's regulations thereunder (17 CFR Part 145 (1987)), except to the extent they are entitled to confidential treatment as set forth in 17 CFR 145.5 and 145.9. Requests for copies of such materials should be made to the FOI, Privacy and Sunshine Act Compliance Staff at the Office of Secretariat at the Commission's headquarters in accordance with 17 CFR 145.7 and 145.8.

Any person interested in submitting written data, views, or arguments on the proposed amendments, or with respect to other materials submitted by the Exchange, should send such comments to Jean A. Webb, Secretary, Commodity Futures Trading Commission, Three Lafayette Centre, 21st Street, NW, Washington, DC 20581 by the specified date.

Issued in Washington, DC, on January 14, 2000.
Richard Shilts,
Acting Director.

[FR Doc. 00-1567 Filed 1-21-00; 8:45 am]

BILLING CODE 6351-01-M